ENVIRONMENTAL PROTECTION AGENCY

[EPA-HQ-OPPT-2008-0717; FRL-8983-7; EPA ICR No. 2328.01; OMB Control No. 2070-TBD]

Agency Information Collection Activities; Submission to OMB for Review and Approval; Comment Request; Pressed Wood Manufacturing Industry Survey

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval: Pressed Wood Manufacturing Industry Survey; ICR No. 2328.01, OMB No. 2070-TBD. The ICR, which is abstracted below, describes the nature of the information collection activity and its expected burden and costs.

DATES: Additional comments may be submitted on or before December 21, 2009.

ADDRESSES: Submit your comments, referencing docket ID Number EPA-HQ-OPPT-2008-0717 to (1) EPA online using http://www.regulations.gov (our preferred method), by e-mail to oppt.ncic@epa.gov or by mail to: Document Control Office (DCO), Office of Pollution Prevention and Toxics (OPPT), Environmental Protection Agency, Mail Code: 7407T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Barbara Cunningham, Director, Environmental Assistance Division, Office of Pollution Prevention and Toxics, Environmental Protection Agency, Mailcode: 7408-M, 1200 Pennsylvania Ave., NW., Washington, DC 20460; telephone number: 202-554-1404; e-mail address: TSCA-Hotline@epa.gov.

SUPPLEMENTARY INFORMATION: EPA has submitted the following ICR to OMB for review and approval according to the procedures prescribed in 5 CFR 1320.12. On December 24, 2008 (73 FR 79083), EPA sought comments on this ICR pursuant to 5 CFR 1320.8(d). EPA received four comments during the comment period, which are addressed in the ICR. Any comments related to this ICR should be submitted to EPA and OMB within 30 days of this notice.

EPA has established a public docket for this ICR under Docket ID No. EPA-HQ-OPPT-2008-0717, which is available for online viewing at http://www.regulations.gov, or in person inspection at the OPPT Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Pollution Prevention and Toxics Docket is 202-566-0280.

Use EPA's electronic docket and comment system at http://www.regulations.gov to submit or view public comments, access the index listing of the contents of the public docket, and to access those documents in the public docket that are available electronically. Once in the system, select “docket search,” then key in the docket ID number identified above. Please note that EPA's policy is that public comments, whether submitted electronically or in paper, will be made available for public viewing in http://www.regulations.gov as EPA receives them and without change, unless the comment contains copyrighted material, confidential business information (CBI), or other information whose public disclosure is restricted by statute. When EPA identifies a comment containing copyrighted material, EPA will provide a reference to that material in the version of the comment that is placed in http://www.regulations.gov. The entire printed comment, including the copyrighted material, will be available in the public docket. Although identified as an item in the official docket, information claimed as CBI, or whose disclosure is otherwise restricted by statute, is not included in the official public docket, and will not be available for public viewing in http://www.regulations.gov. For further information about the electronic docket, go to http://www.regulations.gov.

Title: Pressed Wood Manufacturing Industry Survey.

ICR Numbers: EPA ICR No. 2328.01, OMB Control No. 2070-TBD.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA has initiated a proceeding to investigate whether and what type of regulatory or other action might be appropriate to control the levels of formaldehyde emitted from pressed wood products, as described in EPA's Advanced Notice of Proposed Rulemaking (ANPR) for Formaldehyde Emissions from Pressed Wood Products, which published in the Federal Register on December 3, 2008 (73 FR 73620). As part of this investigation, EPA seeks to survey U.S. pressed wood manufacturers to collect information on the categories and volume of pressed wood manufactured; the types of resins used in the manufacturing process; the formaldehyde emissions levels from the pressed wood; recent or planned changes to reduce formaldehyde emissions and the resulting costs; and any issues that may affect the ability to reduce formaldehyde emissions. The survey will be sent to all U.S. pressed wood manufacturers identified by EPA (i.e., it will be a census). This survey asks for readily obtainable information, so the plant does not have to generate new information (for example, by testing product emissions) to complete the survey.

When EPA sought comments on the ICR on December 24, 2008 (73 FR 79083), the Agency intended to use the same questionnaire for all pressed wood manufacturers. EPA has now modified the survey so that there are two different questionnaires. One questionnaire is for manufacturers of hardwood plywood, particleboard, and medium density fiberboard (which are the products subject to the CARB rule). The second questionnaire is for manufacturers of hardboard or structural composites (glued laminated timber, I-joists, oriented strandboard, softwood plywood, and structural composite lumber) that are not subject to the CARB rule. These manufacturers are unlikely to have as much readily available information to use responding to the survey, this questionnaire asks for a more limited set of information.

EPA will request that all U.S. pressed wood manufacturers voluntarily complete the survey. If EPA does not achieve a sufficient survey response rate to accurately characterize the industry, EPA will consider whether to exercise the authority available to it under TSCA section 11(c), 15 U.S.C. 2610(c). TSCA section 11(c) provides EPA with the authority to issue subpoenas requiring the production of reports, papers, documents, answers to questions, and other information that the Administrator deems necessary. EPA could potentially use its TSCA section 11(c) authority to issue subpoenas requiring recipients (i.e., non-respondents) to complete and return the survey.

Respondents may elect to claim certain submitted information as confidential business information (CBI) if there is a legitimate need to do so as described in EPA's regulations at 40 CFR part 2. These claims will be handled according to EPA procedures described in the regulation at 40 CFR part 2. EPA will disclose information that is covered by a claim of confidentiality only to the extent permitted by, and in accordance with, the procedures in TSCA section 14, 15 U.S.C. 2613, and the regulation at 40 CFR part 2.

The information collected through the survey will allow EPA to predict a future baseline for the types of resins that will be used in pressed wood, and the levels of formaldehyde that will be emitted from them. EPA will also use this information to assess the incremental benefits and costs of potential actions at the national level on formaldehyde emissions from pressed wood products. This information is necessary to inform Agency decisionmaking about the need for and scope of regulatory or other actions to control the levels of formaldehyde emitted from pressed wood products. If this survey is not conducted, EPA will not have this data to establish the baseline for its actions nor insight into the adjustments that plants in the industry are planning to make. Therefore, this survey is necessary for the proper performance of Agency functions.

Burden Statement: The annual public reporting and recordkeeping burden for this collection of information is estimated to range between 14 and 20 hours per response, depending upon the nature of the respondent. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are facilities engaged in the manufacturing of pressed wood products, including glued laminated timber, hardboard, medium density fiberboard, oriented strandboard, particleboard, hardwood and softwood plywood, prefabricated I-joists, and structural composite lumber (which includes laminated veneer lumber, laminated strand lumber, parallel strand lumber, and oriented strand lumber).

Frequency of Collection: Once.

Estimated average number of responses for each respondent: 1.

Estimated No. of Respondents: 343.

Estimated Total Annual Burden on Respondents: 5,804 hours.

Estimated Total Annual Costs: $324,220.

Changes in Burden Estimates: This is a new ICR. This estimated burden for this new ICR is estimated to be 5,804 hours and is a program change.

Dated: November 16, 2009.
John Moses,
Acting Director, Collection Strategies Division.

[FR Doc. E9-27941 Filed 11-19-09; 8:45 am]

BILLING CODE 6560-50-P